DEPARTMENT OF ENERGY

Federal Energy Regulatory Commission

Docket Nos. CP05-29-000, CP05-30-000, and CP05-31-000]

Freebird Gas Storage, L.L.C.; Notice of Intent To Prepare an Environmental Assessment for the Proposed Freebird Gas Storage Project and Request for Comments on Environmental Issues

December 2, 2004.

The staff of the Federal Energy Regulatory Commission (FERC or Commission) will prepare an environmental assessment (EA) that will discuss the environmental impacts of the Freebird Gas Storage Project involving construction and operation of facilities by Freebird Gas Storage, L.L.C. (Freebird) in Lamar County, Alabama.¹ These facilities would raise the capacity of the East Detroit Gas Storage Field. The facilities would also consist of five new compressor units, eight additional well heads, two new flow lines, a 4.48 mile 16-inch bi-directional lateral to connect the storage facility to the “500 leg” of the Tennessee Gas Pipeline Company (Tennessee) upstream of Tennessee's Compression Station 550. At the interconnection with Tennessee a new meter station and various regulator facilities would be constructed.

¹ Freebird's application was filed with the Commission under section 7 of the Natural Gas Act and Part 157 of the Commission's regulations.

The applicant also requests authorization for a blanket certificate.

This EA will be used by the Commission in its decision-making process to determine whether the project is in the public convenience and necessity.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Freebird provided to landowners. This fact sheet addresses a number of typically asked questions, including the use of eminent domain and how to participate in the Commission's proceedings. It is available for viewing on the FERC Internet Web site (http://www.ferc.gov).

Summary of the Proposed Project

Freebird proposes to purchase and expand the existing East Detroit Gas Storage Field, (currently a non-jurisdictional facility) located in Lamar County, Alabama. The storage field is currently owned by Northwest Alabama Gas District. The applicant would raise the capacity of the storage field from 1.44 billion cubic feet (Bcf) to approximately 7.5 Bcf. Five new compressor units would be installed onsite at the existing compressor station to increase available compression from 4,000 to 15,870 horsepower (hp), which would provide a withdrawal rate of 160,000 million cubic feet (Mcf) per day for 30 consecutive days. Eight wells would be drilled and two new gathering lines, 0.65 and 0.41 miles in length, would be constructed within the existing boundaries of the storage facility. A 4.48 mile, 16-inch bi-directional lateral would be constructed to connect the storage facility to the “500 leg” of the Tennessee Gas Pipeline Company (Tennessee). At the interconnection with Tennessee, a new meter station would be constructed. Regulator facilities, located at the new meter station, will include a scraper trap, meters, associated piping for bi-directional flow, a chromatograph building, pressure regulation, and a heater. The location of the project facilities is shown in Appendix 1.²

² The appendices referenced in this notice are not being printed in the Federal Register. Copies of all appendices, other than appendix 1 (maps), are available on the Commission's website at the “eLibrary” link or from the Commission(s Public Reference Room, 888 First Street, NE., Washington, DC 20426, or call (202) 502-8371. For instructions on connecting to eLibrary refer to the last page of this notice. Copies of the appendices were sent to all those receiving this notice in the mail.

Land Requirements for Construction

Construction of the proposed facilities would require about 69.21 acres of land. Following construction, about 49.29 acres would be maintained as new aboveground facility sites. The remaining 19.92 acres of land would be restored and allowed to revert to its former use.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA, we ³ will discuss impacts that could occur as a result of the construction and operation of the project. We will also evaluate possible alternatives to the proposed project or portions of the project, and make recommendations on how to lessen or avoid impacts on the various resource areas.

³ ”We”, “us”, and “our” refer to the environmental staff of the Office of Energy Projects (OEP).

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch (1).

• Reference docket numbers.

• Mail your comments so that they will be received in Washington, DC on or before January 5, 2005.

Please note that the commission strongly encourages electronic filing of any comments or interventions or protests to this proceeding. See 18 CFR 385.2001(a)(1)(iii) and the instructions on the Commission's Web site at http://www.ferc.gov under the “e-Filing” link and the link to the User's Guide. Prepare your submission in the same manner as you would if filing on paper and save it to a file on your hard drive. Before you can file comments, you will need to create an account by clicking on “login to file” and then “New User Account”. You will be asked to select the type of filing you are making. This filing is considered a “comment on filing.”

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214, see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERCOnlineSupport@ferc.gov. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E4-3539 Filed 12-7-04; 8:45 am]

BILLING CODE 6717-01-P